DEPARTMENT OF TRANSPORTATION

Surface Transportation Board

[STB Docket No. AB-55 (Sub-No. 654X)]

CSX Transportation, Inc.—Discontinuance of Service Exemption—In Washington, DC

CSX Transportation, Inc. (CSXT) has filed a verified notice of exemption under 49 CFR 1152 subpart F—Exempt Abandonments and Discontinuances of Service to discontinue service over an approximately 6.0-mile rail line of the Northern Region, Baltimore Division, Capital Subdivision, between Shepherd Junction, milepost BAZ 0.02, and the end of track, milepost BAZ 6.0, in Washington, DC. The line traverses United States Postal Service Zip Codes 20019, 20020, 20032, 20332, and 20375.

CSXT has certified that: (1) No local traffic has moved over the line for at least 2 years; (2) any overhead traffic on the line can be rerouted over other lines; (3) no formal complaint filed by a user of rail service on the line (or by a state or local government entity acting on behalf of such user) regarding cessation of service over the line either is pending with the Surface Transportation Board or with any U.S. District Court or has been decided in favor of complainant within the 2-year period; and (4) the requirements at 49 CFR 1105.7 (environmental report), 49 CFR 1105.8 (historic report), 49 CFR 1105.11 (transmittal letter), 49 CR 1105.12 (newspaper publication), and 49 CFR 1152.50(d)(1) (notice to governmental agencies) have been met.

As a condition to this exemption, any employee adversely affected by the discontinuance shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on October 20, 2004,¹ unless stayed pending reconsideration. Petitions to stay that do not involve environmental issues and formal expressions of intent to file an OFA under 49 CFR 1152.27(c)(2),² must be filed by September 30, 2004. Petitions to reopen must be filed by October 12, 2004, with: Surface Transportation Board, 1925 K Street, NW., Washington, DC 20423-0001.

¹ Because this is a discontinuance of service proceeding and not an abandonment, there is no need to provide an opportunity for trail use/rail banking or public use condition requests. Likewise, no environmental or historic documentation is required under 49 CFR 1105.6(c)(6) and 1105.8.

² Each offer of financial assistance must be accompanied by the filing fee, which currently is set at $1,100. See 49 CFR 1002.2(f)(25).

A copy of any petition filed with the Board should be sent to applicant's representative: Louis E. Gitomer, 1455 F Street, NW., Suite 225, Washington, DC 20005.

If the verified notice contains false or misleading information, the exemption is void ab initio.

Board decisions and notices are available on our Web site at http://www.stb.dot.gov.

Decided: September 10, 2004.
By the Board, David M. Konschnik, Director, Office of Proceedings.
Vernon A. Williams,
Secretary.

[FR Doc. 04-20963 Filed 9-17-04; 8:45 am]

BILLING CODE 4915-01-P